DEPARTMENT OF THE INTERIOR

National Park Service

[NPS-SER-CHCH-10687; 5220-726]

Minor Boundary Revision at Chickamauga and Chattanooga National Military Park

AGENCY: National Park Service, Interior.

ACTION: Notification of boundary revision.

SUMMARY: Notice is hereby given that, pursuant to 16 U.S.C. 460l-9(c)(1)(ii), the boundary of Chickamauga and Chattanooga National Military Park is modified to include an additional 13.75 acres of land identified as Tract 11-109. The tract, also known as the Model Airplane Field, is located on the west side of Moccasin Bend Road in Hamilton County, Tennessee, across the Tennessee River from downtown Chattanooga. Three sides of the property are contiguous to the current boundary of the park. The boundary revision is depicted on Map No. 301/112,683 dated February 2012. The map is available for inspection at the following locations: National Park Service, Southeast Region Land Resources Program Center, 1924 Building, 100 Alabama Street SW., Atlanta, Georgia 30303, and National Park Service, Department of the Interior, Washington, DC 20240.

FOR FURTHER INFORMATION CONTACT: National Park Service, Chief, Southeast Region Land Resources Program Center, 1924 Building, 100 Alabama Street SW., Atlanta, Georgia 30303, telephone (404) 507-5664.

DATES: The effective date of this boundary revision is October 22, 2012.

SUPPLEMENTARY INFORMATION: 16 U.S.C. 460l-9(c)(1)(ii) provides that, after notifying the House Committee on Natural Resources and the Senate Committee on Energy and Natural Resources, the Secretary of the Interior is authorized to make this boundary revision upon publication of notice in the Federal Register. The Committees have been notified of this boundary revision. This boundary revision and subsequent acquisition of Tract 11-109 by donation will enable the National Park Service to manage and protect significant archeological resources located in the Moccasin Bend National Archeological District Unit of the park.

Dated: September 10, 2012.
David Vela,
Regional Director, Southeast Region.

[FR Doc. 2012-25964 Filed 10-19-12; 8:45 am]

BILLING CODE 4310-YU-P